DEPARTMENT OF COMMERCE

International Trade Administration

[A-533-809]

Certain Forged Stainless Steel Flanges From India; Final Results of Antidumping Duty Changed Circumstances Review

AGENCY: Import Administration, International Trade Administration, Department of Commerce.

SUMMARY: The Department of Commerce (the Department) has determined, pursuant to section 751(b) of the Tariff Act of 1930, as amended (the Tariff Act), that India Steel Works, Ltd. (India Steel) is the successor-in-interest to Isibars, Ltd. (Isibars). As a result, India Steel will be accorded the same treatment previously accorded to Isibars in regard to the antidumping duty order on certain forged stainless steel flanges from India as of the date of publication of this notice in the Federal Register.

DATES: Effective Date: July 10, 2008.

FOR FURTHER INFORMATION CONTACT: Fred Baker or Robert James, AD/CVD Operations, Office 7, Import Administration, International Trade Administration, U.S. Department of Commerce, 14th Street and Constitution Avenue, NW., Washington, DC 20230; telephone: (202) 482-2924 or (202) 482-0649, respectively.

SUPPLEMENTARY INFORMATION:

Background

On February 26, 2008, India Steel requested that the Department conduct a changed circumstances review of the antidumping duty order on stainless steel flanges from India pursuant to section 751(b) of the Tariff Act and 19 CFR 351.216. In its request, India Steel claimed that the entity previously known to the Department as Isibars had changed its name to India Steel, and that India Steel should therefore be assigned the same antidumping duty cash deposit rate as Isibars. In response to this request, the Department initiated a changed circumstances review of the antidumping duty order on forged stainless steel flanges from India. See Notice of Initiation of Antidumping Duty Changed Circumstances Review: Certain Forged Stainless Steel Flanges from India, 73 FR 14959 (March 20, 2008). On March 20, 2008, the Department issued a questionnaire to India Steel requesting information about its relation to Isibars. The Department received India Steel's response on April 16, 2008. On May 19, 2008, the Department preliminarily determined that India Steel was the successor-in-interest to Isibars. See Certain Forged Stainless Steel Flanges from India; Preliminary Results of Antidumping Duty Changed Circumstances Review, 73 FR 28798 (May 19, 2008) (Preliminary Results). We invited parties to comment on the Preliminary Results. We received no comments.

Scope of the Order

The products covered by this order are certain forged stainless steel flanges, both finished and not finished, generally manufactured to specification ASTM A-182, and made in alloys such as 304, 304L, 316, and 316L. The scope includes five general types of flanges. They are weld-neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the Harmonized Tariff Schedule (HTS). Although the HTS subheading is provided for convenience and customs purposes, the written description of the merchandise under review is dispositive.

Final Results of Changed Circumstances Review

For the reasons stated in the Preliminary Results, and because the Department did not receive any comments during the comment period following the preliminary results of this review, the Department continues to find that India Steel is the successor-in-interest to Isibars for antidumping duty cash deposit purposes.

Instructions to U.S. Customs and Border Protection

The Department will instruct CBP to suspend liquidation of all shipments of the subject merchandise produced and exported by India Steel entered, or withdrawn from warehouse, for consumption on or after the publication date of this notice at zero percent (i.e., Isibar's cash deposit rate). This deposit rate shall remain in effect until publication of the final results of the next administrative review in which India Steel participates.

This notice also serves as a reminder to parties subject to administrative protective orders (APO) of their responsibility concerning the disposition of proprietary information disclosed under APO in accordance with 19 CFR 351.306. Timely written notification of the return/destruction of APO materials or conversion to judicial protective order is hereby requested. Failure to comply with the regulations and terms of an APO is a sanctionable violation.

This notice in accordance with sections 751(b) and 777(i)(1) of the Tariff Act, and section 351.221(c)(3)(i) of the Department's regulations.

Dated: July 2, 2008.
David M. Spooner,
Assistant Secretary for Import Administration.

[FR Doc. E8-15734 Filed 7-9-08; 8:45 am]

BILLING CODE 3510-DS-P